DEPARTMENT OF VETERANS AFFAIRS

[OMB Control No. 2900-0676]

Proposed Information Collection (National Acquisition Center Customer Response Survey) Activity; Comment Request

AGENCY: Office of Acquisition and Logistics, Department of Veterans Affairs.

ACTION: Notice.

SUMMARY: The Office of Acquisition and Logistics (OAL), Department of Veterans Affairs (VA), is announcing an opportunity for public comment on the proposed collection of certain information by the agency. Under the Paperwork Reduction Act (PRA) of 1995, Federal agencies are required to publish notice in the Federal Register concerning each proposed collection of information, including each extension of a currently approved collection, and allow 60 days for public comment in response to the notice. This notice solicits comments on the information needed to measure customer satisfaction with delivered products and services.

DATES: Written comments and recommendations on the proposed collection of information should be received on or before June 5, 2012.

ADDRESSES: Submit written comments on the collection of information through the Federal Docket Management System (FDMS) www.Regulations.gov; or to Arita Tillman, Office of Acquisition and Logistics Programs and Policy (003A3A), Department of Veterans Affairs, 810 Vermont Avenue NW., Washington, DC 20420; or email: arita.tillman@va.gov. Please refer to “OMB Control No. 2900-0676” in any correspondence. During the comment period, comments may be viewed online through FDMS.

FOR FURTHER INFORMATION CONTACT: Arita Tillman at (202) 775-4194 or FAX to 202-495-5390.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, (OAL) invites comments on: (1) Whether the proposed collection of information is necessary for the proper performance of (OAL's) functions, including whether the information will have practical utility; (2) the accuracy of (OAL's) estimate of the burden of the proposed collection of information; (3) ways to enhance the quality, utility, and clarity of the information to be collected; and (4) ways to minimize the burden of the collection of information on respondents, including through the use of automated collection techniques or the use of other forms of information technology.

Title: Department of Veterans Affairs (VA) National Acquisition Center Customer Response Survey, VA Form 0863.

OMB Control Number: 2900-0676.

Type of Review: Extension of a currently approved collection.

Abstract: VA Form 0863 will be used to collect customer's feedback and suggestions on delivered products and services administered by the National Acquisition Center (NAC). NAC will use the data to improve and/or enhance its program operations for both internal and external customers.

Affected Public: Federal Government.

Estimated Annual Burden: 83 hours.

Estimated Average Burden per Respondent: 5 minutes.

Frequency of Response: On occasion.

Estimated Number of Respondents: 1,000.

Dated: April 3, 2012.
By direction of the Secretary.
Denise McLamb,
Program Analyst, Enterprise Records Service.

[FR Doc. 2012-8276 Filed 4-5-12; 8:45 am]

BILLING CODE 8320-01-P